DEPARTMENT OF STATE

[Public Notice: 9399]

Notice of Meeting of the International Telecommunication Advisory Committee and Preparations for Upcoming International Communications and Information Policy Meetings

This notice announces a meeting of the Department of State's International Telecommunication Advisory Committee (ITAC) to review the activities of the Department of State in recent international meetings on international communications and information policy and preview upcoming similar activities. The ITAC will meet on January 21, 2016 at 2:00 p.m. EST at: 1300 I Street NW, Washington, DC 20005. The ITAC will review the results of the International Telecommunication Union (ITU) 2015 Radio Assembly and the 2015 World Radiocommunication Conference and World Summit on the Information Society (WSIS) +10 review.

The ITAC will also discuss the ITU World Telecommunication Standardization Assembly 2016 (WTSA 16) taking place in the fourth quarter of 2016, including positions on study program restructuring and leadership. The WTSA, the quadrennial assembly of the ITU Telecommunication Standardization Sector (ITU-T), will consider the reports of the ITU-T Study Groups, approve the sector's program of

work, decide the Study Group structure, and appoint chairmen and vice-chairmen. At the ITAC meeting, we invite comment from the public on U.S. priorities for WTSA 16.

The meeting will also highlight preparations for the ITU Council meeting taking place from 25 May to 2 June 2016 and related ITU Council Working Groups. The Council acts as the governing body between plenipotentiary conferences.

Attendance at this meeting is open to the public as seating capacity allows. The public will have an opportunity to provide comments at this meeting at the invitation of the chair. Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by providing his or her name, email address, and the company, organization, or community that he or she is representing, if any.

Persons wishing to request reasonable accommodation for the meeting should contact jacksonln@state.gov or gadsdensf@state.gov not later than January 13, 2016. Requests made after that time will be considered, but might not be able to be fulfilled.

FOR FURTHER INFORMATION: Please contact Franz Zichy at 202-647-5778, zichyfj@state.gov.

Dated: December 29, 2015.
Julie N. Zoller,
Senior Deputy Coordinator, International Communications and Information Policy, U.S. State Department.

[FR Doc. 2015-33299 Filed 1-6-16; 8:45 am]

BILLING CODE 4710-07-P